NATIONAL FOUNDATION ON THE ARTS AND THE HUMANITIES

National Endowment for the Arts

Combined Arts Advisory Panel

Pursuant to section 10(a)(2) of the Federal Advisory Committee Act (Pub. L. 92-463), as amended, notice is hereby given that four meetings of the Combined Arts Advisory Panel to the National Council on the Arts will be held at the Nancy Hanks Center, 1100 Pennsylvania Avenue, NW., Washington, DC, 20506 as follows:

Dance: August 4-8, 2003, Room 716 (Creativity and Services to Arts Organizations and Artists categories). This meeting will be closed.

Literature: August 11-13, 2003, Room 714 (Creativity and Services to Arts Organizations and Artists category). A portion of this meeting, from 11 am. to 12 p.m. on August 13th, will be open to the public for policy discussion. The remaining portions of this meeting, from 9 a.m. to 6 p.m. on August 11th and 12th, and from 9 a.m. to 11 a.m. and 12 p.m. to 4 p.m. on August 13th, will be closed.

Theater: August 5-8, 2003, Room 730 (Creativity category—Panel B). A portion of this meeting, from 3 p.m. to 4:30 p.m. on August 7th, will be open to the public for policy discussion. The remaining portions of this meeting, from 10 a.m. to 6:30 p.m. on August 5th, from 10 a.m. to 7 p.m. on August 6th, from 10 a.m. to 3 p.m. and 4:30 p.m. to 6:30 p.m. on August 7th, and from 10 a.m. to 4:30 p.m. on August 8th, will be closed.

Musical Theater/Theater: August 19-20, 2003, Room 714 (Musical Theater Creativity and Theater Services to Arts Organizations and Artists categories). A portion of this meeting, from 1:30 p.m. to 2:30 p.m. on August 20th, will be open to the public for policy discussion. The remaining portions of this meeting, from 9:30 a.m. to 7 p.m. on August 19th and from 9:30 a.m. to 1:30 p.m. and 2:30 p.m. to 5 p.m. on August 20th, will be closed.

The closed meetings and portions of meetings are for the purpose of Panel review, discussion, evaluation, and recommendation on applications for financial assistance under the National Foundation on the Arts and the Humanities Act of 1965, as amended, including information given in confidence to the agency by grant applicants. In accordance with the determination of the Chairman of April 30, 2003, these sessions will be closed to the public pursuant to (c)(4)(6) and (9)(B) of section 552b of Title 5, United States Code.

Any person may observe meetings, or portions thereof, of advisory panels that are open to the public, and, if time allows, may be permitted to participate in the panel's discussions at the discretion of the panel chairman and with the approval of the full-time Federal employee in attendance.

If you need special accommodations due to a disability, please contact the Office of AccessAbility, National Endowment for the Arts, 1100 Pennsylvania Avenue, NW., Washington, DC 20506, (202) 682-5532, TDY-TDD 202/682-5496, at least seven (7) days prior to the meeting.

FOR FURTHER INFORMATION CONTACT: Further information with reference to this meeting can be obtained from Ms. Kathy Plowitz-Worden, Office of Guidelines & Panel Operations, National Endowment for the Arts, Washington, DC, 20506, or call (202) 682-5691.

Dated: July 15, 2003.
Kathy Plowitz-Worden,
Panel Coordinator, Panel Operations, National Endowment for the Arts.

[FR Doc. 03-18546 Filed 7-21-03; 8:45 am]

BILLING CODE 7537-01-P